DEPARTMENT OF ENERGY

Federal Energy Regulatory Commission

[Docket No. CP08-6-000]

Midcontinent Express Pipeline, Llc; Notice of Availability of the Draft Environmental Impact Statement for the Midcontinent Express Pipeline Project

February 8, 2008.

The staff of the Federal Energy Regulatory Commission (FERC or Commission) has prepared this Draft Environmental Impact Statement (EIS) for the natural gas pipeline facilities proposed by Midcontinent Express Pipeline Company, LLC (MEP) under the above-referenced docket. MEP's Midcontinent Express Pipeline Project (Project) would be located in various counties and parishes in Oklahoma, Texas, Louisiana, Mississippi, and Alabama.

The Draft EIS was prepared to satisfy the requirements of the National Environmental Policy Act. The FERC staff concludes that the proposed Project, with the appropriate mitigation measures as recommended, would have limited adverse environmental impact.

The U.S. Army Corps of Engineers (COE), U.S. Fish and Wildlife Service (FWS), National Park Service (NPS), Natural Resources Conservation Service (NRCS), U.S. Environmental Protection Agency (EPA), Louisiana Department of Environmental Quality (LDEQ), Texas Parks and Wildlife Department (TPWD), and Alabama Department of Conservation and Natural Resources (ADCNR) are cooperating agencies for the development of this EIS. A cooperating agency has jurisdiction by law or special expertise with respect to any environmental impact involved with the proposal and is involved in the NEPA analysis.

The general purpose of the proposed Project is to transport up to 1,500,000 dekatherms per day of natural gas from production fields in Texas, Oklahoma, and Arkansas to markets in the eastern region of the United States.

The Draft EIS addresses the potential environmental impacts resulting from the construction and operation of the following facilities:

• Approximately 504.3 miles of new 30-, 36-, and 42-inch-diameter interstate natural gas pipeline extending from Bryan County, Oklahoma, to a terminus in Choctaw County, Alabama;

• An approximately 4.1-mile-long, 16-inch-diameter lateral pipeline in Richland and Madison Parishes, Louisiana;

• A total of approximately 111,720 horsepower (hp) of compression at one booster and four new mainline compressor stations;

• 13 new metering and regulating (M/R) stations; and

• Other appurtenant ancillary facilities including, mainline valves (MLV), pig ¹ launcher and receiver facilities.

¹ A “pig” is a mechanical device used to clean or inspect the pipeline.

Dependent upon Commission approval, MEP proposes to complete construction and begin operating the proposed Project in February 2009.

The Draft EIS has been placed in the public files of the FERC and is available for public inspection at: Federal Energy Regulatory Commission, Public Reference Room, 888 First Street, NE., Room 2A, Washington, DC 20426, (202) 502-8371.

A limited number of copies of the Draft EIS are available from the Public Reference Room identified above. In addition, CD-ROM copies of the Draft EIS have been mailed to affected landowners; various federal, state, and local government agencies; elected officials; environmental and public interest groups; Native American tribes; local libraries and newspapers; intervenors; and other individuals that expressed an interest in the proposed Project. Hard-copies of the Draft EIS have also been mailed to those who requested that format during the scoping and comment periods for the proposed Project.

Comment Procedures and Public Meetings

Any person wishing to comment on the Draft EIS may do so. To ensure consideration prior to a Commission decision on the proposal, it is important that the Commission receives your comments before the date specified below. Please carefully follow these instructions to ensure that your comments are received and properly recorded.

• Send an Original and two copies of your comments to: Kimberly D. Bose, Secretary, Federal Energy Regulatory Commission, 888 First Street, NE., Room 1A, Washington, DC 20002.

• Reference Docket No. CP08-6-000.

• Label one copy of the comments for the attention of Gas Branch 3.

• Mail your comments so that they will be received in Washington, DC on or before March 31, 2008

The Commission strongly encourages electronic filing of any comments, interventions or protests to this proceeding. See 18 CFR 385.2001(a)(1)(iii) and the instructions on the Commission's Web site at http://www.ferc.gov under the “e-Filing” link and the link to the User's guide. Before you can file comments you will need to create a free account, which can be created by clicking on “Login to File” and then “New User Account.” You will be asked to select the type of filing you are making. This filing is considered a “Comment on Filing.”

In lieu of or in addition to sending written comments, you are invited to attend public comment meetings the FERC will conduct in the project area to receive comments on the Draft EIS. All meetings will begin at 7 p.m. (CDT), and are scheduled as follows.

Date | Location
Tuesday, March 25, 2008 | Quitman Depot, Main Street and Railroad Avenue, Quitman, MS 39355, (601) 776-3728.
Tuesday, March 25, 2008 | Minden Civic Center, 520 Broadway Street, Minden, LA 71055, (318) 377-2144.
Wednesday, March 26, 2008 | Eudora Welty Library, 300 North State Street, Jackson, MS 39201, (601) 968-5811.
Wednesday, March 26, 2008 | Northeast Texas Community College, 1735 Chapel Hill Road, Mt. Pleasant, TX 75455, (800) 870-0142.
Thursday, March 27, 2008 | Delhi Civic Center, 232 Denver Street, Delhi, LA 71232, (318) 878-3792.
Thursday, March 27, 2008 | Love Civic Center (North Hall), 2025 South Collegiate Drive, Paris, TX 75460, (903) 739-9912.

Interested groups and individuals are encouraged to attend and present oral comments on the Draft EIS. Transcripts of the meetings will be prepared and placed in the public file.

After the comments are reviewed, and significant new issues are investigated, and modifications are made to the Draft EIS, a Final EIS will be published and distributed by the FERC staff. The Final EIS will contain the staff's responses to timely comments received on the Draft EIS.

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision. Anyone may intervene in this proceeding based on this Draft EIS. You must file your request to intervene as specified above.² You do not need intervenor status to have your comments considered.

² Interventions may also be filed electronically via the Internet in lieu of paper. See the previous discussion on filing comments electronically.

The Draft EIS has been placed in the public files of the FERC and is available for distribution and public inspection at: Federal Energy Regulatory Commission, Public Reference Room, 888 First Street, NE., Room 2A, Washington, DC 20426, (202) 208-1371.

CD-ROM copies of the EIS have been mailed to Federal, state and local agencies; public interest groups; individuals and affected landowners who requested a copy of the Draft EIS or provided comments during scoping; libraries and newspapers in the Project area; and parties to this proceeding. Hard copy versions of the Draft EIS were mailed to those specifically requesting them. A limited number of hard copies and CD-ROMs are available from the Public Reference Room identified above.

Additional information about the project is available from the Commission's Office of External Affairs, at 1-866-208-FERC (3372) or on the FERC Internet Web site (http://www.ferc.gov). Using the “eLibrary link,” select “General Search” and enter the project docket number excluding the last three digits (i.e., CP08-6) in the “Docket Number” field. Be sure you have selected an appropriate date range. For assistance, please contact FERC Online Support at FERCOnlineSupport@ferc.gov or toll free at 1-866-208-3676, or TTY (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Kimberly D. Bose,
Secretary.

[FR Doc. E8-2969 Filed 2-15-08; 8:45 am]

BILLING CODE 6717-01-P